DEPARTMENT OF THE INTERIOR

Fish and Wildlife Service

Proposed Chewacla Creek Safe Harbor Agreement, Lee County, AL

AGENCY: Fish and Wildlife Service, Interior.

ACTION: Notice.

SUMMARY: This notice advises the public that the landowners and cooperators (Applicants) identified in the SUPPLEMENTARY INFORMATION section of this Notice have applied to the Fish and Wildlife Service (Service) for enhancement of survival permits pursuant to section 10(a)(1)(A) of the Endangered Species Act of 1973, as amended. The permit applications include a proposed Safe Harbor Agreement (Agreement) for the endangered ovate clubshell mussel (Pleurobema perovatum) and southern clubshell mussel (Pleurobema decisum), and the threatened fine-lined pocketbook mussel (Lampsilis altilis), for a period of 30 years.

We (the Service) announce the opening of a 30-day comment period and request comments from the public on the Applicants' enhancement of survival permit applications, the accompanying proposed Agreement, and the Environmental Assessment. The Environmental Assessment identifies and describes five alternatives. All comments we receive, including names and addresses, will become part of the administrative record and may be released to the public. For further information and instructions on reviewing and commenting on this application, see the ADDRESSES section, below.

DATES: Written comments should be received on or before April 9, 2003.

ADDRESSES: You may obtain a copy of the information available by contacting the Service's Regional Safe Harbor Coordinator, U.S. Fish and Wildlife Service, 1875 Century Boulevard, Suite 200, Atlanta, Georgia 30345, or Field Supervisor, U.S. Fish and Wildlife Service, 1208-B Main St., Daphne, Alabama 36526. Alternatively, you may set up an appointment to view these documents at either location during normal business hours. Written data or comments should be submitted to the Atlanta, Georgia, Regional Office. Requests for the documentation must be in writing to be processed, and comments must be written to be considered.

FOR FURTHER INFORMATION CONTACT: Mr. Rick Gooch, (telephone: 404/679-7124; facsimile: 404/679-7081), or Mr. Darren LeBlanc, (telephone: 251/441-5859; facsimile: 251/441-6222).

SUPPLEMENTARY INFORMATION:

Background

The Applicants for the Chewacla Creek Safe Harbor Agreement including the following landowners and cooperators:

Landowners:

Alabama Department of Conservation and Natural Resources, Montgomery, Alabama.

Bob and Fannie Harris, LLC, Silver Spring, Maryland.

John W. Pace III, Mobile, Alabama.

Phillips Family Partnership, Ltd., Auburn, Alabama.

Water Works Board of the City of Auburn, Alabama.

Martin Marietta Materials, Inc., Shorter, Alabama, 36075.

Cooperator:

The City of Auburn, Alabama.

Under a Safe Harbor Agreement, participating property owners voluntarily undertake management activities on their property to enhance, restore, or maintain habitat benefitting species listed under the Endangered Species Act. Safe Harbor Agreements encourage private and other non-Federal property owners to implement conservation efforts for listed species by assuring property owners they will not be subjected to increased property use restrictions if their efforts attract listed species to their property or increase the numbers or distribution of listed species already on their property. Application requirements and issuance criteria for enhancement of survival permits through Safe Harbor Agreements are found in 50 CFR 17.22 and 17.32.

We have worked with the Applicants to design and implement conservation measures intended to benefit the above-listed mussels in Chewacla Creek. Under the Agreement, the Applicants will undertake the following actions: (1) Repair of existing and new subsidence features within ten feet of Chewacla Creek within the enrolled property boundaries; (2) Restore a more natural flow to Chewacla Creek downstream of Lake Ogletree by pumping quarry water into Lake Ogletree with a minimum guaranteed flow release from the dam into Chewacla Creek; (3) Monitor stream flow, water quality, and bioassessment parameters.

The subsidence features in and immediately adjacent to the Chewacla Creek act to funnel water into the ground causing a portion of the creek to become intermittent (dewatered) during most of the year. The lack of constant stream flow in the dewatered section of Chewacla Creek, downstream of the Pretty Hole to Martin Marietta's outfall 2, has made that section of the creek habitat unavailable to the ovate clubshell, southern clubshell and fine-lined pocketbook. It has also physically and genetically isolated the population of fine-lined pocketbook mussel which occurs upstream of the dewatered section. The proposed conservation measures, repair of subsidence features located within and immediately adjacent to the creek and restoration of a consistent stream flow, would increase the quantity and quality of available habitat for the covered species. Without the proposed Agreement, it would not be possible for the Applicants to undertake the proposed conservation measures and receive regulatory assurances from the Endangered Species Act.

Consistent with the Safe Harbor Policy and implementing regulations, we propose to issue permits to the Applicants authorizing them to incidentally take these endangered and threatened species, which occur on the enrolled lands, as a result of lawful activities on enrolled lands, as long as baseline conditions are maintained and terms of the Agreement are implemented. Future activities of the Applicants could result in a return to the baseline condition of Chewacla Creek. However, the Applicants have stated that this is not anticipated, and, further, that the Applicants are not undertaking this Agreement for the purpose of obtaining such regulatory assurances.

We provide this notice pursuant to section 10(c) of the Endangered Species Act and pursuant to implementing regulations for the National Environmental Policy Act (40 CFR 1506.6). We will evaluate the proposed Agreement, associated documents, and comments submitted thereon to determine whether the requirements of section 10(a) of the Endangered Species Act and National Environmental Policy Act regulations have been met. If we determine that the requirements are met, we will issue an enhancement of survival permit under section 10(a)(1)(A) of the Endangered Species Act to the Applicants in accordance with the terms of the Agreement and specific terms and conditions of the authorizing permit. We will not make our final decision until after the end of the 30-day comment period and will fully consider all comments received during the comment period.

Dated: February 20, 2003.
J. Mitch King,
Acting Regional Director.

[FR Doc. 03-5575 Filed 3-7-03; 8:45 am]

BILLING CODE 4310-55-P